DEPARTMENT OF HEALTH AND HUMAN SERVICES

Centers for Disease Control and Prevention

[60-Day-11-0009]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Legionellosis Case Report—OMB 0920-0009, exp. 4/31/2013-(Revision) National Center for Immunization and Respiratory Diseases (NCIRD), Centers for Disease Control and Prevention (CDC).

Background and Brief Description

Surveillance for legionellosis, a nationally notifiable disease, has been conducted since 1980. A voluntary surveillance system, maintained by the Centers for Disease Control and Prevention's Respiratory Diseases Branch, collects and monitors Legionellosis Case Report forms submitted by local and state health departments on the approved form (OMB 0920-0009).

To reflect recent enhanced surveillance initiatives for travel and healthcare-associated legionellosis and recent changes to the nationally notifiable case definition, CDC is requesting changes to the currently approved Legionellosis Case Report form. The changes will allow the Legionella Program to better detect potential clusters and outbreaks of Legionnaires' disease and to monitor changing epidemiological trends by collecting a greater level of detail for each legionellosis case. The burden to the respondents should be minimally affected by these proposed changes. In most cases, the burden should be reduced as the changes requested should provide clearer guidance for form completion.

There are no costs to respondents other than their time.

Estimate of Annualized Burden Hours
Respondents | Number of respondents | Number of responses per respondent | Average burden per response (in hrs) | Total burden hours
State public health | 50 | 70 | 20/60 | 1,167
Total | 50 | 70 | 20/60 | 1,167

Dated: September 8, 2011.
Daniel Holcomb,
Reports Clearance Officer, Centers for Disease Control and Prevention.

[FR Doc. 2011-23474 Filed 9-13-11; 8:45 am]

BILLING CODE 4163-18-P